DEPARTMENT OF COMMERCE

Submission for OMB Review; Comment Request; State & Local Government Finance Collections

The Department of Commerce will submit to the Office of Management and Budget (OMB) for clearance the following proposal for collection of information under the provisions of the Paperwork Reduction Act (44 U.S.C. chapter 35).

Agency: U.S. Census Bureau.

Title: State & Local Government Finance Collections.

OMB Control Number: 0607-0585.

Form Number(s): F-5, F-11, F-12, F-13, F-28, F-29, F-32.

Type of Request: Revision of a currently approved collection.

Number of Respondents: 26,447.

Average Hours per Response: 2 hours and 51 minutes.

Burden Hours: 75,150.

Needs and Uses: The State & Local Government Finance program is the only known comprehensive source of state and local government finance data collected on a nationwide scale using uniform definitions, concepts, and procedures. The Census Bureau implements this program through conducting a full census every five years (years ending in 2 and 7) and annual sample surveys in the interim years. The Census Bureau has conducted the Census of Governments every five years since 1957 and phased in the annual surveys over the subsequent years.

Currently, we are requesting approval to conduct the 2017 Census of Governments: Finance component and the 2018 and 2019 Annual Survey of State Government Tax Collections, Annual Survey of State Government Finances, the Annual Survey of Local Government Finances, and the Annual Survey of Public Pensions. These surveys collect data on state government finances and estimates of local government revenue, expenditure, debt, assets, and pension systems nationally and within state areas. Data are collected for all agencies, departments, and institutions of the fifty state and approximate 77,000 local governments (counties, municipalities, townships, and special districts) during the census years, and for a sample of the local governments (approximately 11,000) for the survey years. An additional 13,000 units of school districts are covered in a separate request.

Over the past several years, the programs covered by this request have moved towards eliminating collection by paper form as much as possible. The only exception to this is the F-13 form, which is still sent as a paper form because the small number of respondents does not justify the cost of converting it to an electronic form. Below is a short description of each the forms utilized in our general collection methods:

F-5. State governments provide detailed data on their tax collections using a spreadsheet that they receive via email. Much of this detail is not available in the state's primary source document. An attachment is included with the email providing the respondent with the OMB approval number, authority and confidentiality statements, and burden estimate.

F-11 and F-12. State and local government pension systems provide data on their receipts, payments, assets, membership, and beneficiaries. The actuarial content of the F-11 and F-12 forms is in the process of being reviewed to remove outdated questions and replace them with questions that are more relevant based on current accounting standards and data user interest. The current burden estimates of 2 hours for F-11 and 2.5 hours for F-12 are not expected to change because of these updates. These forms are completed online via electronic collection instrument.

F-13. State agencies provide data not included in the audits, electronic files and other primary sources the Census Bureau uses to compile state government financial data. Form F-13 is used to collect data from state insurance trust systems. Respondents to this survey receive a paper form.

F-28. Counties, cities, and townships provide data on revenues, expenditures, debt, and assets. These forms are completed online via electronic collection instrument.

F-29. Multi-function special district governments provide data on revenues, expenditures, debt, and assets. These forms are completed online via electronic collection instrument.

F-32. Single-function special district governments and dependent agencies of local governments provide data on revenues, expenditures, debt and assets. These forms are completed online via electronic collection instrument.

In addition to these more traditional collection methods, the Census Bureau also collects electronic data files through arrangements with state governments, central collection arrangements with local governments, and using customized electronic reporting instruments.

These data are widely used by Federal, state, and local legislators, policy makers, analysts, economists, and researchers to follow the changing characteristics of the government sector of the economy. The data are also widely used by the media and academia.

More specifically, the Census Bureau provides its state and local government finance data annually to the Bureau of Economic Analysis (BEA) for use in measuring and developing estimates of the government sector of the economy in the National Income and Product Accounts. The Census Bureau also provides these data to the Federal Reserve Board for constructing the Flow of Funds Accounts.

Additionally, the state and local government data are also needed as inputs into the Justice Expenditure and Employment Extract Series, produced by the Bureau of Justice Statistics, and the National Health Expenditure Accounts produced by the Centers for Medicare and Medicaid Services. The data are also published annually in the Digest of Education Statistics produced by National Center for Education Statistics, the Economic Report of the President produced by the Council of Economic Advisors, and the source data are used as input into the State and Local Governments Fiscal Outlook published by the Government Accountability Office. In addition, the data are used by the National Science Foundation as inputs into the state government R&D expenditures.

In recent years, state and local government financial information has garnered significant media attention and policy coverage. As such, timely state and local government finance data are critical in light of current financial conditions of state and local governments, as they provide insight into the complex nature and fiscal health of state and local government finances.

Beginning with the 1993 annual data series, all data, summary tables, and files have been released on the Internet. At the Internet site, (census.gov/govs/) users will find documentation, summary tables and files.

Affected Public: State, local or Tribal government.

Frequency: Annually.

Respondent's Obligation: Voluntary.

Legal Authority: Title 13 U.S.C., Sections 161 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Department Lead, Office of the Chief Information Officer.

[FR Doc. 2017-07950 Filed 4-19-17; 8:45 am]

BILLING CODE 3510-07-P